DEPARTMENT OF ENERGY

Federal Energy Regulatory Commission

Sunshine Act Meetings

TIME AND DATE: February 18, 2021, 10:00 a.m.

PLACE: Open to the public via audio webcast only. Join FERC online to listen live at http://ferc.capitolconnection. org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1075th—Meeting—Open Meeting
[February 18, 2021, 10:00 a.m.]
Item No. | Docket No. | Company
Administrative
A-1 | AD21-1-000 | Agency Administrative Matters.
A-2 | AD21-2-000 | Customer Matters, Reliability, Security and Market Operations.
Electric
E-1 | EL16-49-006 | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC, and Panda Power Generation.
| ER18-1314-010 | Infrastructure Fund, LLC v. PJM Interconnection, L.L.C.
| EL18-178-006 (Consolidated) | PJM Interconnection, L.L.C.
E-2 | EL16-92-004 | New York State Public Service Commission, New York Power Authority, Long Island Power Authority, New York State Energy Research and Development Authority, City of New York, Advanced Energy Management Alliance, and Natural Resources Defense Council v. New York.
| ER17-996-004 | Independent System Operator, Inc., New York Independent System Operator, Inc.
E-3 | AD18-7-000 | Grid Resilience in Regional Transmission Organizations and Independent System Operators.
E-4 | RM18-1-001 | Grid Reliability and Resilience Pricing.
E-5 | ER21-720-000 | Midcontinent Independent System Operator, Inc.
E-6 | ER21-721-000 | Midcontinent Independent System Operator, Inc.
E-7 | ER21-722-000 | Midcontinent Independent System Operator, Inc.
E-8 | ER21-791-000, ER20-1952-000 | North Star Solar PV LLC.
E-9 | ER20-287-002 | CPV Fairview, LLC.
E-10 | EL19-52-000 | Louisiana Energy and Power Authority.
E-11 | ER18-99-004 | Southwest Power Pool, Inc.
E-12 | ER20-2441-001, ER20-2442-001, EL20-68-001 | Basin Electric Power Cooperative.
E-13 | ER20-2686-000 | PJM Interconnection, L.L.C.
E-14 | ER20-598-002 | Midcontinent Independent System Operator, Inc.
E-15 | ER20-945-002 | Southwest Power Pool, Inc.
E-16 | NJ21-1-000 | Western Area Power Administration.
E-17 | EG00-39-000 | Brunner Island, LLC.
E-18 | ER15-2115-008 | Southwest Power Pool, Inc.
E-19 | EL20-48-001 | PP&L Industrial Customer Alliance v. PPL Electric Utilities Corporation.
E-20 | EL20-57-000 | Cloverland Electric Cooperative v. Wisconsin Electric Power Company.
E-21 | EL21-2-000 | Public Citizen, Inc. and Citizens Action Coalition v. CenterPoint Energy, Inc. and Southern Indiana Gas and Electric Company.
E-22 | EL20-73-000 | Hoopa Valley Tribe and Hoopa Valley Public Utility District.
E-23 | ER20-1068-002, ER20-2100-002 | The Dayton Power and Light Company, PJM Interconnection, L.L.C. and The Dayton Power and Light Company.
E-24 | ER18-619-002 | ISO New England Inc.
Gas
G-1 | RM96-1-042 | Standards for Business Practices of Interstate Natural Gas Pipelines.
G-2 | OR14-6-004 | BP Pipelines (Alaska) Inc., ConocoPhillips Transportation Alaska, Inc., and ExxonMobil Pipeline Company.
G-3 | OR19-23-001 | TransMontaigne Partners L.P. and Metroplex Energy, Inc. v. Colonial Pipeline Company.
Hydro
H-1 | RM20-21-000 | Removing Profile Drawing Requirement for Qualifying Conduit Notices of Intent and Revising Filing Requirements for Major Hydroelectric Projects 10 MW or Less.
H-2 | P-14995-000 | Pumped Hydro Storage LLC.
H-3 | P-15032-001 | ECOsponsible, LLC.
H-4 | P-15001-000 | Navajo Energy Storage Station LLC.
H-5 | P-2833-118 | Public Utility District No. 1 of Lewis County Washington.
Certificates
C-1 | PL18-1-000 | Certification of New Interstate Natural Gas Facilities.
C-2 | CP20-496-000 | Andalusian Energy, LLC.
C-3 | CP20-532-000 | Freeport LNG Development, L.P., FLNG Liquefaction, LLC, FLNG Liquefaction 2, LLC, and FLNG Liquefaction 3, LLC.
C-4 | CP16-9-012 | Algonquin Gas Transmission, LLC and Maritimes & Northeast Pipeline, LLC.

Issued: February 11, 2021.
Nathaniel J. Davis, Sr.,
Deputy Secretary.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2021-03274 Filed 2-16-21; 4:15 pm]

BILLING CODE 6717-01-P